FEDERAL HOUSING FINANCE BOARD

Sunshine Act Meeting Notice: Addition of Agenda Item

Federal Register Citation of Previous Announcement: 70 FR 53796, September 12, 2005.

Addition of Agenda Item: The Board of Directors determined that agency business required the addition on less than seven days notice and that no earlier notice was practicable of the following item to the open portion of the meeting held on September 14, 2005:

Expedited Regulatory Relief to Support Victims of Hurricane Katrina. The Board of Directors will consider a resolution that would extend any regulatory relief granted to an individual Federal Home Loan Bank for purposes of assisting victims of Hurricane Katrina to any or all of the other Banks, so that the members of other Banks also may provide housing and financial assistance to victims of Hurricane Katrina throughout the country.

FOR FURTHER INFORMATION CONTACT: Shelia Willis, Paralegal Specialist, Office of General Counsel, at (202) 408-2876 or williss@fhfb.gov.

Dated: September 14, 2005.
By the Federal Housing Finance Board.
John P. Kennedy,
General Counsel.

[FR Doc. 05-18692 Filed 9-15-05; 12:22 pm]

BILLING CODE 6725-01-P